DEPARTMENT OF ENERGY

Federal Energy Regulatory Commission

[ Docket No. PF08-6-000]

Columbia Gas Transmission Corporation; Notice of Limited Scoping for the Ohio Storage Expansion Project

May 9, 2008.

The staff of the Federal Energy Regulatory Commission (FERC or Commission) will prepare an environmental assessment (EA) that will discuss the potential environmental impacts of the Ohio Storage Expansion Project, involving construction and operation of natural gas facilities by Columbia Gas Transmission Corporation (Columbia) in Ashland, Fairfield, Hocking, and Holmes Counties, Ohio. The EA will be used by the Commission in its decision-making process to determine whether the project is in the public convenience and necessity.

On May 1, 2008, Columbia filed a revision to its project that would remove two wells from consideration, thus not affecting two landowners. Further, Columbia would add four additional wells (Well 12491, Well 12492, Well 12578, and Well 12496) affecting two additional landowners. This filing is available for review at the Commission in the Public Reference Room or may be viewed on the Commission's Web site at http://www.ferc.gov using the “eLibrary” link. Enter the docket number excluding the last three digits (i.e., PF08-6) in the docket number field to access the document. For assistance, please contact FERC Online Support at FERCOnlineSupport@ferc.gov or call toll free at (866) 208-3676, or for TTY, contact (202) 502-8659.

Because the two additional landowners were recently added to our environmental mailing list (after the April 7, 2008 close of scoping), they have not had an opportunity to comment on Columbia's planned project. Therefore, we are opening a limited scoping period directed at these landowners to comment on the project and attaching the original Notice of Intent to Prepare an Environmental Assessment and Request for Comments on Environmental Issues to this letter. Please note that this limited scoping period will close on June 1, 2008.

Kimberly D. Bose,
Secretary.

[FR Doc. E8-11019 Filed 5-15-08; 8:45 am]

BILLING CODE 6717-01-P